NATIONAL AERONAUTICS AND SPACE ADMINISTRATION

[Notice: (02-002)]

Notice of Agency Report Forms Under OMB Review

AGENCY: National Aeronautics and Space Administration (NASA).

ACTION: Notice of Agency report forms under OMB review.

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)). This information collection provides records of accountability, responsibility, transfer, location, and disposition of radioactive materials.

DATES: Comments on this proposal should be received within 30 calendar days from the date of this publication.

ADDRESSES: All comments should be addressed to Desk Officer for NASA; Office of Information and Regulatory Affairs; Office of Management and Budget; Room 10236; New Executive Office Building; Washington, DC, 20503.

FOR FURTHER INFORMATION CONTACT: Ms. Nancy Kaplan, NASA Reports Officer, (202) 358-1372.

Title: Radioactive Material Transfer Receipt.

OMB Number: 2700-0007.

Type of review: Extension.

Need and Uses: NASA Johnson Space Center is required by federal law to keep records of the receipt, transfer, and disposal of radioactive items and information on accountability, responsibility, transfer, disposition, and location.

Affected Public: Business or other for-profit; Federal Government, state, local or tribal government.

Number of Respondents: 25.

Responses Per Respondent: 2.

Annual Responses: 50.

Hours Per Request: Approximately ½ hr.

Annual Burden Hours: 29.

Frequency of Report: On occasion.

David B. Nelson,
Deputy Chief Information Officer, Office of the Administrator.

[FR Doc. 02-378 Filed 1-7-02; 8:45 am]

BILLING CODE 7510-01-P